DEPARTMENT OF TRANSPORTATION

Federal Motor Carrier Safety Administration

[Docket No. FMCSA-2012-0135]

Agency Information Collection Activities; Extension of a Currently-Approved Information Collection: Licensing Applications for Motor Carrier Operating Authority

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for review and approval. The FMCSA seeks approval to extend an ICR entitled, “Licensing Applications for Motor Carrier Operating Authority,” that is used by for-hire motor carriers of regulated commodities, motor passenger carriers, freight forwarders, property brokers, and certain Mexico-domiciled motor carriers to register their operations with the FMCSA. The agency invites public comment on the ICR. On March 14, 2012, FMCSA published a Federal Register notice allowing for a 60-day comment period on the ICR. No comments were received.

DATES: Please send your comments by June 25, 2012. OMB must receive your comments by this date in order to act quickly on the ICR.

ADDRESSES: All comments should reference Federal Docket Management System (FDMS) Docket Number FMCSA-2012-0135. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW., Washington, DC 20503.

FOR FURTHER INFORMATION CONTACT: Ms. Denise Ryan, Transportation Specialist, Office of Information Technology, Information Technology Operations Division, Department of Transportation, Federal Motor Carrier Safety Administration, 6th Floor, West Building, 1200 New Jersey Ave. SE., Washington, DC 20590, Telephone Number (202) 493-0242; Email Address denise.ryan@dot.gov. Office hours are from 9:00 a.m. to 5:00 p.m., Monday through Friday, except Federal Holidays.

SUPPLEMENTARY INFORMATION: Title: Applications for Motor Carrier Operating Authority.

OMB Control Number: 2126-0016.

Type of Request: Extension of a currently-approved information collection.

Respondents: Motor carriers, motor passenger carriers, freight forwarders, brokers, and certain Mexico-domiciled motor carriers.

Estimated Number of Respondents: 37,239.

Estimated Time per Response: 4 hours to complete Form OP-1 (MX); and 2 hours to complete Forms OP-1, OP-1(FF), OP-1(P).

Expiration Date: September 30, 2012.

Frequency of Response: Other (as needed).

Estimated Total Annual Burden: 74,556 hours [71,400 hours for Form OP-1 + 2,000 hours for Form OP-1(P) + 1,000 hours for Form OP-1(FF) + 140 hours for Form OP-1(MX) + 16 hours for OP-1(NNA) = 74,556].

Background: The FMCSA is authorized to register for-hire motor carriers of regulated commodities under the provisions of 49 U.S.C. 13902; freight forwarders under the provisions of 49 U.S.C. 13903; property brokers under the provisions of 49 U.S.C. 13904; and certain Mexican motor carriers under the provisions of 49 U.S.C. 13902 and the North American Free Trade Agreement (NAFTA) motor carrier access provisions. The forms used to apply for registration authority with the FMCSA are: Form OP-1 for motor property carriers and brokers; Form OP-1(P) for motor passenger carriers; Form OP-1(FF) for freight forwarders; and Form OP-1(MX) for certain Mexican motor carriers. These forms request information on the applicant's identity, location, familiarity with safety requirements, and type of proposed operations. There are some differences on the forms due to specific statutory standards for registration of the different types of transportation entities.

Public Comments Invited: You are asked to comment on any aspect of this information collection, including: (1) Whether the proposed collection is necessary for the FMCSA to perform its functions; (2) the accuracy of the estimated burden; (3) ways for FMCSA to enhance the quality, usefulness, and clarity of the collected information; and (4) ways that the burden could be minimized without reducing the quality of the collected information.

Issued on: May 11, 2012.
Kelly Leone,
Associate Administrator for Research and Information Technology.

[FR Doc. 2012-12631 Filed 5-23-12; 8:45 am]

BILLING CODE 4910-EX-P